DEPARTMENT OF TRANSPORTATION

Federal Aviation Administration

14 CFR Part 39

[Docket No. 2003-NM-223-AD; Amendment 39-13468; AD 2004-03-24]

RIN 2120-AA64

Airworthiness Directives; Airbus Model A330-200, A330-300, A340-200, and A340-300 Series Airplanes

AGENCY: Federal Aviation Administration, DOT.

ACTION: Final rule; request for comments.

SUMMARY: This amendment adopts a new airworthiness directive (AD) that is applicable to all Airbus Model A330-200, A330-300, A340-200, and A340-300 series airplanes. This action requires a revision of the airplane flight manual to include procedures for a pre-flight elevator check before each flight, repetitive inspections for cracks of the attachment lugs of the mode selector valve position transducers on the elevator servocontrols, and corrective actions if necessary. This action is intended to advise the flightcrew of the potential for an undetected inoperative elevator, and of the action they must take to avoid this hazard. This action is necessary to ensure proper functioning of the elevator surfaces, and to detect and correct cracking of the attachment lugs, which could result in partial loss of elevator function and consequent reduced controllability of the airplane. This action is intended to address the identified unsafe condition.

DATES: Effective February 26, 2004.

The incorporation by reference of certain publications listed in the regulations is approved by the Director of the Federal Register as of February 26, 2004.

Comments for inclusion in the Rules Docket must be received on or before March 11, 2004.

ADDRESSES: Submit comments in triplicate to the Federal Aviation Administration (FAA), Transport Airplane Directorate, ANM-114, Attention: Rules Docket No. 2003-NM-223-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2003-NM-223-AD” in the subject line and need not be submitted in triplicate. Comments sent via fax or the Internet as attached electronic files must be formatted in Microsoft Word 97 or 2000 or ASCII text.

The service information referenced in this AD may be obtained from Airbus, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: The Direction Générale de l'Aviation Civile (DGAC), which is the airworthiness authority for France, notified the FAA that an unsafe condition may exist on all Airbus Model A330-200, A330-300, A340-200, and A340-300 series airplanes. Each elevator on these airplanes is equipped with two servocontrols having three operating modes. A selector valve installed in each servocontrol enables the servocontrol to change between operating modes; the selector valve's position is transmitted to the flight control computers by a transducer. The DGAC advises that several cracks of the transducer body at its attachment lugs have been detected. The affected transducers were installed at the damping positions 3CS1 and 3CS2. The cracks resulted in displacement of the transducer and consequent leakage of the hydraulic fluid into the affected servocontrol. In two cases the displacement of the transducer resulted in the elevator becoming inoperative (it dropped into a full down position), with no electronic centralized aircraft monitor (ECAM) warning provided to the flightcrew. Without an ECAM warning, this inoperative condition can be identified only if no elevator surface movement is detected during a pre-flight elevator check. Loss of elevator function, if not corrected, could result in reduced controllability of the airplane.

Explanation of Relevant Service Information

Airbus has issued Service Bulletins A330-27A3115 and A340-27A4119, both Revision 02, dated December 30, 2003. The service bulletins describe procedures for repetitive dye penetrant inspections for cracks of the attachment lugs of the mode selector valve position transducer on each elevator servocontrol installed at damping positions 3CS1 and 3CS2. The service bulletins also provide procedures for replacing a cracked transducer with a new part and torqueing the bolts when the transducer is reinstalled. The DGAC classified the service bulletins as mandatory and issued French airworthiness directive F-2003-460, dated December 24, 2003, to ensure the continued airworthiness of these airplanes in France.

The Airbus service bulletins refer to Goodrich Actuation Systems Inspection Service Bulletin SC4800-27-13 as an additional source of service information for the inspection.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the findings of the DGAC, reviewed all available information, and determined that AD action is necessary for products of this type design that are certificated for operation in the United States.

Explanation of Requirements of Rule

Since an unsafe condition has been identified that is likely to exist or develop on other airplanes of the same type design registered in the United States, this AD is being issued to ensure proper functioning of the elevator surfaces, and to detect and correct cracking of the attachment lugs of the mode selector valve position transducers on the elevator servocontrols, which could result in partial loss of elevator function and consequent reduced controllability of the airplane. This AD requires a revision of the airplane flight manual (AFM) to include procedures for a pre-flight elevator check, repetitive inspections for cracks of the attachment lugs, and corrective action if necessary. The actions are required to be accomplished in accordance with the Airbus service bulletins described previously, except as discussed under “Differences Between This AD and French Airworthiness Directive.”

This AD also requires that operators report crack findings to Airbus. Because the cause of the cracking is not known, these required inspection reports will help determine the extent of the cracking in the affected fleet. Based on the results of these reports, we may determine that additional rulemaking is warranted.

Differences Between This AD and the French Airworthiness Directive

The FAA and DGAC airworthiness directives differ in their compliance times for the first repetitive inspection interval for airplanes already inspected in accordance with Revision 01 of the service bulletin. The DGAC allows up to 700 flight cycles or 1,350 total flight cycles (whichever occurs later) for this interval, but this AD requires that all inspections be done within intervals of 350 flight cycles. French airworthiness directive 2003-371—which was replaced by the existing French airworthiness directive 2003-460—required that the inspection be done only one time. Therefore, for operators that had complied with 2003-371, the additional time following the initial inspection could provide the necessary time to schedule the subsequent repetitive inspections. Since we have not previously required the subject inspection, this AD does not provide for any extension of the first-repeated inspection interval. However, we may approve requests to adjust that interval, according to the provisions of paragraph (g) of this AD, if the request includes data that prove that the first repetitive interval would provide an acceptable level of safety.

Also, the DGAC airworthiness directive mandates a change to the flight crew operating manual (FCOM) to include an additional elevator pre-flight check. We agree with the need to check for proper functioning of the elevators before takeoff, but we have determined that the appropriate location for the procedure is in the AFM, in the Limitations section. We base this determination on the following considerations:

1. The FCOM does not require FAA approval; therefore, FCOM changes cannot be mandated by an AD.

2. It is possible that later changes to the FCOM made by an operator could result in removal of the necessary pre-flight check.

3. An ECAM warning to the flightcrew would not be provided following an elevator failure.

4. An elevator failure could result in reduced controllability of the airplane.

The DGAC airworthiness directive specifies that the FCOM be amended “for one or both damping servo controls above 1000 FC since new.” However, this AD requires that the parallel change to the AFM—which applies across airplane model/series—be incorporated within 30 days.

Interim Action

We consider this AD interim action. The manufacturer is considering developing a modification that will address the unsafe condition identified in this AD. Once this modification is developed, approved, and available, we may consider additional rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2003-NM-223-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption Addresses.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-24 Airbus: Amendment 39-13468. Docket 2003-NM-223-AD.

Applicability: All Model A330-200, A330-300, A340-200, and A340-300 series airplanes; certificated in any category.

Compliance: Required as indicated, unless accomplished previously.

To ensure proper functioning of the elevator surfaces, and to detect and correct cracking of the attachment lugs of the mode selector valve position transducers on the elevator servocontrols, which could result in partial loss of elevator function and consequent reduced controllability of the airplane, accomplish the following:

AFM Revision

(a) Within 30 days after the effective date of this AD, revise the Limitations section of the airplane flight manual (AFM) to include a pre-flight elevator check, by including the following language. This may be done by inserting a copy of this AD into the applicable AFM. Thereafter perform the pre-flight check before every flight in accordance with the procedure.

Prior or During Taxi:

“FLIGHT CONTROLS CHECK

1. AT A CONVENIENT STAGE, PRIOR TO OR DURING TAXI, AND BEFORE ARMING THE AUTOBRAKE, THE PF SILENTLY APPLIES FULL LONGITUDINAL AND LATERAL SIDESTICK DEFLECTION. ON THE F/CTL PAGE, THE PNF CHECKS FULL TRAVEL OF ALL ELEVATORS AND ALL AILERONS, AND THE CORRECT DEFLECTION AND RETRACTION OF ALL SPOILERS. THE PNF CALLS OUT “FULL UP,” “FULL DOWN,” “NEUTRAL,” “FULL LEFT,” “FULL RIGHT,” “NEUTRAL,” AS EACH FULL TRAVEL/NEUTRAL POSITION IS REACHED. THE PF SILENTLY CHECKS THAT THE PNF CALLS ARE IN ACCORDANCE WITH THE SIDESTICK ORDER.

NOTE: IN ORDER TO REACH FULL TRAVEL, FULL SIDESTICK MUST BE HELD FOR A SUFFICIENT PERIOD OF TIME.

2. THE PF PRESSES THE PEDAL DISC PUSHBUTTON ON THE NOSEWHEEL TILLER, AND SILENTLY APPLIES FULL LEFT RUDDER, FULL RIGHT RUDDER, AND NEUTRAL. THE PNF CALLS OUT “FULL LEFT,” “FULL RIGHT,” “NEUTRAL,” AS EACH FULL TRAVEL/NEUTRAL POSITION IS REACHED.

3. THE PNF APPLIES FULL LONGITUDINAL AND LATERAL SIDESTICK DEFLECTION, AND SILENTLY CHECKS FULL TRAVEL AND CORRECT SENSE OF ALL ELEVATORS AND ALL AILERONS, AND CORRECT DEFLECTION AND RETRACTION OF ALL SPOILERS, ON THE ECAM F/CTL PAGE.”

Note 1: Full and complete elevator travel (position commanded) can be verified on the ECAM Flight Control Page. A determination of “correct sense” should include verification that there is complete and full motion of the sidesticks without binding.

(b) If any pre-flight check required by paragraph (a) of this AD reveals improper function of the elevator: Before further flight, perform the inspections required by paragraph (c) of this AD.

Inspections

(c) At the applicable time specified in paragraph (c)(1) or (c)(2) of this AD, except as required by paragraph (b) of this AD: Perform a dye penetrant inspection of the attachment lugs of the mode selector valve position transducers on each elevator servocontrol installed at damping positions 3CS1 and 3CS2. Do the inspection in accordance with the Accomplishment Instructions of Airbus Service Bulletin A330-27A3115 or A340-27A4119, both Revision 02, both dated December 30, 2003, as applicable (hereafter “the service bulletin”). An inspection that is done before the effective date of this AD is acceptable for compliance with the initial inspection requirement of this paragraph, if the inspection is done in accordance with any of the following Airbus All Operators Telexes (AOTs): AOT A330-27A3115 or A340-27A4119, dated September 11, 2003, or Revision 01 of each AOT dated September 25, 2003; as applicable. Repeat the inspection thereafter at intervals not to exceed 350 flight cycles.

(1) If the age of the servocontrol from the date of its first installation on the airplane can be positively determined: Do the inspection before the accumulation of 1,000 total flight cycles on the elevator servocontrol, or within 350 flight cycles on the servocontrol after the effective date of this AD, whichever occurs later.

(2) If the age of the servocontrol from the date of its first installation on the airplane cannot be positively determined, do the inspection within 350 flight cycles on the servocontrol after the effective date of this AD.

Note 2: The service bulletin refers to Goodrich Actuation Systems Inspection Service Bulletin SC4800-27-13 as an additional source of service information for the inspection.

Corrective Actions

(d) If any crack is found during any inspection required by paragraph (c) of this AD: Before further flight, replace either the transducer or servocontrol with a new part, in accordance with the service bulletin.

Reporting Requirement

(e) If any crack is found during any inspection required by paragraph (c) of this AD: Submit a report in accordance with the service bulletin at the applicable time(s) specified in paragraphs (e)(1) and (e)(2) of this AD: Submit reports to Airbus Customer Services, Engineering and Technical Support, Attention: J. Laurent, SEE53, fax +33/(0)5.61.93.44.25, Sita Code TLSBQ7X. Under the provisions of the Paperwork Reduction Act of 1980 (44 U.S.C. 3501 et seq.), the Office of Management and Budget (OMB) has approved the information collection requirements contained in this AD and has assigned OMB Control Number 2120-0056.

(1) For an initial inspection done before the effective date of this AD: Submit the report within 30 days after the effective date of this AD.

(2) For an inspection done after the effective date of this AD: Submit the report within 30 days after the inspection.

Parts Installation

(f) As of the effective date of this AD, no person may install the following part on any airplane: a transducer, or a transducer fitted on an elevator servocontrol, in the operator's inventory before September 25, 2003, unless that transducer has been inspected in accordance with the service bulletin and is crack-free.

Alternative Methods of Compliance

(g) In accordance with 14 CFR 39.19, the Manager, International Branch, ANM-116, FAA, Transport Airplane Directorate, is authorized to approve alternative methods of compliance for this AD.

Incorporation by Reference

(h) Unless otherwise specified in this AD, the actions must be done in accordance with Airbus Service Bulletin A330-27A3115, Revision 02, including Appendix 01, dated December 30, 2003; or Airbus Service Bulletin A340-27A4119, Revision 02, including Appendix 01, dated December 30, 2003; as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive F-2003-460, dated December 24, 2003.

Effective Date

(i) This amendment becomes effective on February 26, 2004.

Issued in Renton, Washington, on February 2, 2004.
Kalene C. Yanamura,
Acting Manager, Transport Airplane Directorate, Aircraft Certification Service.

[FR Doc. 04-2683 Filed 2-10-04; 8:45 am]

BILLING CODE 4910-13-P